DEPARTMENT OF THE INTERIOR

Bureau of Ocean Energy Management

[OMB Control Number 1010-0082; Docket ID: BOEM-2017-0016]

Agency Information Collection Activities; Leasing of Minerals Other Than Oil, Gas, and Sulphur in the Outer Continental Shelf

AGENCY: Bureau of Ocean Energy Management, Interior.

ACTION: Notice of information collection; request for comment.

SUMMARY: In accordance with the Paperwork Reduction Act of 1995, the Bureau of Ocean Energy Management (BOEM) is proposing to renew an information collection request (ICR).

DATES: Interested persons are invited to submit comments on or before January 19, 2021.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0082 in the subject line of your comments.

FOR FURTHER INFORMATION CONTACT: To request additional information about this ICR, contact Anna Atkinson by email, or by telephone at 703-787-1025.

SUPPLEMENTARY INFORMATION: In accordance with the Paperwork Reduction Act of 1995, BOEM provides the general public and other Federal agencies with an opportunity to comment on new, proposed, revised, and continuing collections of information. This helps BOEM assess the impact of our information collection requirements and minimize the public's reporting burden. It also helps the public understand our information collection requirements and provide the requested data in the desired format.

BOEM is soliciting comments on the proposed ICR described below. BOEM is especially interested in public comment addressing the following issues: (1) Is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in our request to the Office of Management and Budget (OMB) for approval of this ICR. You should be aware that your entire comment—including your address, phone number, email address, or other personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

BOEM protects proprietary information in accordance with the Freedom of Information Act (5 U.S.C. 552) and the Department of the Interior's implementing regulations (43 CFR part 2).

Title of Collection: 30 CFR part 581, Leasing of Minerals Other than Oil, Gas, and Sulphur in the Outer Continental Shelf.

Abstract: The Outer Continental Shelf (OCS) Lands Act (Act), as amended (43 U.S.C. 1334 and 43 U.S.C. 1337(k)), authorizes the Secretary of the Interior (Secretary) to administer the provisions relating to the leasing of the OCS, and to prescribe such rules and regulations as may be necessary to carry out such provisions. Additionally, the Act authorizes the Secretary to implement regulations to grant to qualified persons, offering the highest cash bonuses on the basis of competitive bidding, leases of any mineral other than oil, gas, and sulphur. This applies to any area of the OCS not then under lease for such mineral upon royalty, rental, and other terms and conditions that the Secretary may prescribe at the time of the lease offer. The Secretary is to administer the leasing provisions of the Act and prescribe the rules and regulations necessary to carry out those provisions.

Regulations at 30 CFR part 581 implement these statutory requirements. There has been no leasing activity in the OCS for minerals other than oil, gas, or sulphur under these regulations for many years, and so BOEM has not generally collected information under this Part of its regulations; however, because these are regulatory requirements, the potential exists for information to be collected. Therefore, we are renewing OMB approval for this information collection.

BOEM will use the information required by 30 CFR part 581 to determine if statutory requirements are met prior to the issuance of a lease. Specifically, BOEM will use the information to:

• Evaluate the area and minerals requested by the lessee to assess the viability of offering leases for sale;

• Request the state(s) to initiate the establishment of a joint task force to assess the proposed action;

• Ensure excessive overriding royalty interests are not created that would put economic constraints on all parties involved;

• Document that a leasehold or geographical subdivision has been surrendered by the record title holder; and

• Determine if activities on the proposed lease area(s) will have a significant impact on the environment.

OMB Control Number: 1010-0082.

Form Number: None.

Type of Review: Renewal of a currently approved collection.

Respondents/Affected Public: As there are no active respondents, we estimate the potential annual number of respondents to be one. Potential respondents are OCS lease requestors, state governments, and OCS lessees.

Total Estimated Number of Annual Responses: 10 responses.

Total Estimated Number of Annual Burden Hours: 984 hours.

Respondent's Obligation: Required to retain or obtain a benefit.

Frequency of Collection: On occasion.

Total Estimated Annual Non-Hour Burden Cost: $29 non-hour cost burden.

The following table details the individual components and respective hour burden estimates of this ICR. We assumed that respondents perform certain requirements in the normal course of their activities. We consider these to be usual and customary and took that into account in estimating the burden. BOEM is decreasing the total non-hour cost burden from $50 to $29 to reflect the current filing application fee amount.

Burden Table
Citation 30 CFR 581 | Reporting and/or recordkeeping requirements * | Non-hour cost burden(s) *: Hour burden | Non-hour cost burden(s) *: Average number of annual reponses | Non-hour cost burden(s) *: Annual burden hours
Subpart A—General
6 | Appeal decisions | Exempt under 5 CFR 1320.4(a)(2), (c) |  | 0
9 | Governor of affected States initiates negotiations on jurisdictional controversy, etc., and enters agreement with BOEM | 16 | 1 request | 16
Subtotal |  |  | 1 Response | 16
Subpart B—Leasing Procedures
11(a), (c) | Submit request for approval for mineral lease with required information | 60 | 1 request | 60
12 | Submit response to Call for Information and Interest on areas for leasing of minerals (other than oil, gas, sulphur) in accordance with approved lease program, including information from States/local governments, industry, Federal agencies | Not considered IC as defined in 5 CFR 1320.3(h)(4) |  | 0
13; 16 | States or local governments establish task force; submit comments/recommendations on planning, coordination, consultation, and other issues that may contribute to the leasing process. | 200 | 1 comment | 200
16 | Submit suggestions and relevant information in response to request for comments on the proposed leasing notice, including information from States/local governments | Not considered IC as defined in 5 CFR 1320.3(h)(4) |  | 0
18; 20(e), (f); 26(a), (b) | Submit bids (oral or sealed) and required information | 250 | 1 response | 250
18(b)(3), (c); 20(e), (f) | Tie bids—submit oral bids for highest bidder | 20 | 1 response | 20
20(a), (b), (c); 41(a) | Establish a company file for qualification, submit updated information, submit qualifications for lessee/bidder and required information | 58 | 1 response | 58
21(a); 47(c) | Request for reconsideration of bid rejection/cancellation | Not considered IC per 5 CFR 1320.3(h)(9) |  | 0
21(b), (e); 23; 26(e), (i); 40(b); 41 | Execute lease (includes submission of evidence of authorized agent and request for dating of leases); maintain auditable records re 30 CFR Chapter II, Subchapter A—[burden under ONRR requirements] | 100 | 1 lease | 100
Subtotal |  |  | 6 Responses | 688
Subpart C—Financial Considerations
31(b); 41 | File application and required information for assignment or transfer for approval | 160 | 1 application | 160
|  | $29 required or non-required filing document fee × 1 = $29
32(b), (c) | File application for waiver, suspension, or reduction and required documentation | 80 | 1 application | 80
33; 41(c) | Submit surety or personal bond | Burden covered under 1010-0081 |  | 0
Subtotal |  |  | 2 Responses | 240
|  |  | $29 Non-Hour Cost Burden
Subpart E—Termination of Leases
46 | File written request for relinquishment. | 40 | 1 Response | 40
|  |  | 10 Responses | 984
* Total Burden |  |  | $29 Non-Hour Cost Burden
* In the future, BOEM may require electronic filing of certain submissions.

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2020-25510 Filed 11-18-20; 8:45 am]

BILLING CODE 4310-MR-P